DEPARTMENT OF HEALTH AND HUMAN SERVICES

National Institutes of Health

Center for Scientific Review; Amended Notice of Meeting

Notice is hereby given of a change in the meeting of the Center for Scientific Review Special Emphasis Panel, RM18-009: NIH Transformative Research Awards (R01) Review, April 7, 2020, 8:00 a.m. to 6:00 p.m., Hyatt Regency Bethesda, One Bethesda Metro Center, Bethesda, MD 20814, which was published in the Federal Register on March 13, 2020, 85 FR 14687.

The meeting will be held at National Institutes of Health, 6701 Rockledge Drive, Bethesda, MD 20872. The meeting date remains the same. The meeting is closed to the public.

Dated: March 16, 2020.
Ronald J. Livingston, Jr.,
Program Analyst, Office of Federal Advisory Committee Policy.

[FR Doc. 2020-05815 Filed 3-19-20; 8:45 am]

BILLING CODE 4140-01-P